DEPARTMENT OF ENERGY

Federal Energy Regulatory Commission

[Docket No. IN12-17-000]

Total Gas & Power North America, Aaron Hall and Therese Tran; Updated Notice of Designation of Commission Staff as Non-Decisional

With respect to an order issued by the Commission on April 28, 2016 in the above-captioned docket,¹ with the exceptions noted below, the staff of the Office of Enforcement are designated as non-decisional in deliberations by the Commission in this docket. Accordingly, pursuant to 18 CFR 385.2202 (2018), they will not serve as advisors to the Commission or take part in the Commission's review of any offer of settlement. Likewise, as non-decisional staff, pursuant to 18 CFR 385.2201 (2018), they are prohibited from communicating with advisory staff concerning any deliberations in this docket.

¹ Total Gas & Power North America, Aaron Hall and Therese Tran, 155 FERC 61,105 (2016).

Exceptions to this designation as non-decisional are:

Reudi Abersold

Demetra Anas

Jeffrey Fang

Martin Lawera

Lisa Owings

Eric Primosch

Felice Richter

Derek Shiau

Nicholas Stavlas

Andrew Tamayo

David Zlotnick

Dated: February 19, 2019.
Kimberly D. Bose,
Secretary.

[FR Doc. 2019-03258 Filed 2-25-19; 8:45 am]

BILLING CODE 6717-01-P